DEPARTMENT OF ENERGY

Federal Energy Regulatory Commission

Combined Notice of Filings

Take notice that the Commission has received the following Natural Gas Pipeline Rate and Refund Report filings:

Filings Instituting Proceedings

Docket Numbers: RP15-915-000.

Applicants: ANR Pipeline Company.

Description: ANR Pipeline Company Operational Purchases and Sales Report.

Filed Date: 4/29/15.

Accession Number: 20150429-5137.

Comments Due: 5 p.m. ET 5/11/15.

Docket Numbers: RP15-916-000.

Applicants: ANR Storage Company.

Description: ANR Storage Company Operational Purchases and Sales of Gas Report.

Filed Date: 4/29/15.

Accession Number: 20150429-5144.

Comments Due: 5 p.m. ET 5/11/15.

Docket Numbers: RP15-917-000.

Applicants: Bison Pipeline LLC.

Description: Bison Pipeline LLC Operational Purchases and Sales of Gas Report.

Filed Date: 4/29/15.

Accession Number: 20150429-5145.

Comments Due: 5 p.m. ET 5/11/15.

Docket Numbers: RP15-918-000.

Applicants: Blue Lake Gas Storage Company.

Description: Blue Lake Gas Storage Company Operational Purchases and Sales of Gas Report.

Filed Date: 4/29/15.

Accession Number: 20150429-5146.

Comments Due: 5 p.m. ET 5/11/15.

Docket Numbers: RP15-919-000.

Applicants: TC Offshore LLC.

Description: TC Offshore LLC Operational Purchases and Sales of Gas Report.

Filed Date: 4/29/15.

Accession Number: 20150429-5147.

Comments Due: 5 p.m. ET 5/11/15.

Docket Numbers: RP15-920-000.

Applicants: Great Lakes Gas Transmission Limited Par.

Description: Great Lakes Gas Transmission Operational Purchases and Sales of Gas Report.

Filed Date: 4/29/15.

Accession Number: 20150429-5148.

Comments Due: 5 p.m. ET 5/11/15.

Docket Numbers: RP15-921-000.

Applicants: Northern Border Pipeline Company.

Description: Northern Border Pipeline Company Operational Purchases and Sales of Gas Report.

Filed Date: 4/29/15.

Accession Number: 20150429-5149.

Comments Due: 5 p.m. ET 5/11/15.

Docket Numbers: RP15-922-000.

Applicants: Algonquin Gas Transmission, LLC.

Description: § 4(d) rate filing per 154.204: ConEdison 2015-05-01 Ramapo Releases to be effective 5/1/2015.

Filed Date: 4/29/15.

Accession Number: 20150429-5208.

Comments Due: 5 p.m. ET 5/11/15.

Docket Numbers: RP15-923-000.

Applicants: Algonquin Gas Transmission, LLC.

Description: § 4(d) rate filing per 154.204: BBPC 2015-05-01 Releases to EDF Trading to be effective 5/1/2015.

Filed Date: 4/29/15.

Accession Number: 20150429-5214.

Comments Due: 5 p.m. ET 5/11/15.

Docket Numbers: RP15-924-000.

Applicants: Algonquin Gas Transmission, LLC.

Description: § 4(d) rate filing per 154.204: BUG 2015-05-01 Ramapo Release to be effective 5/1/2015.

Filed Date: 4/29/15.

Accession Number: 20150429-5232.

Comments Due: 5 p.m. ET 5/11/15.

Docket Numbers: RP15-925-000.

Applicants: Algonquin Gas Transmission, LLC.

Description: § 4(d) rate filing per 154.204: KeySpan 2015-05-01 Ramapo Release to be effective 5/1/2015.

Filed Date: 4/29/15.

Accession Number: 20150429-5239.

Comments Due: 5 p.m. ET 5/11/15.

Docket Numbers: RP15-926-000.

Applicants: Transcontinental Gas Pipe Line Company.

Description: § 4(d) rate filing per 154.204: Negotiated Rates—Cherokee AGL—Replacement Shippers—May 2015 to be effective 5/1/2015.

Filed Date: 4/29/15.

Accession Number: 20150429-5436.

Comments Due: 5 p.m. ET 5/11/15.

Docket Numbers: RP15-927-000.

Applicants: Texas Eastern Transmission, LP.

Description: § 4(d) rate filing per 154.204: Apr2015 Modification of Exhibits to FT-1 Service Agreement to be effective 7/1/2015.

Filed Date: 4/29/15.

Accession Number: 20150429-5437.

Comments Due: 5 p.m. ET 5/11/15.

Docket Numbers: RP15-928-000.

Applicants: Transcontinental Gas Pipe Line Company.

Description: § 4(d) rate filing per 154.204: Negotiated Rates—UGI Utilities, Inc. to be effective 5/1/2015.

Filed Date: 4/29/15.

Accession Number: 20150429-5440.

Comments Due: 5 p.m. ET 5/11/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-65-002.

Applicants: Gulf South Pipeline Company, LP.

Description: Compliance filing per 154.203: Motion General Section 4 Rate Case Tariff Records into Effect to be effective 5/1/2015.

Filed Date: 4/29/15.

Accession Number: 20150429-5402.

Comments Due: 5 p.m. ET 5/11/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2015.
Nathaniel J. Davis, Sr.,
Deputy Secretary.

[FR Doc. 2015-11325 Filed 5-8-15; 8:45 am]

BILLING CODE 6717-01-P